DEPARTMENT OF AGRICULTURE

Animal and Plant Health Inspection Service

[Docket No. APHIS-2007-0003]

Notice of Request for Approval of an Information Collection; Animal Care; Program Evaluation Survey of Licensees and Registrants

AGENCY: Animal and Plant Health Inspection Service, USDA.

ACTION: New information collection; comment request.

SUMMARY: In accordance with the Paperwork Reduction Act of 1995, this notice announces the Animal and Plant Health Inspection Service's intention to initiate a new information collection activity associated with the Agency's Animal Care program. The activity involves surveying licensees and registrants.

DATES: We will consider all comments that we receive on or before April 17, 2007.

ADDRESSES: You may submit comments by either of the following methods: Federal eRulemaking Portal: Go to http://www.regulations.gov, select “Animal and Plant Health Inspection Service” from the agency drop-down menu, then click “Submit.” In the Docket ID column, select APHIS-2007-0003 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2007-0003, Regulatory Analysis and Development, PPD, APHIS, Station 3A-03.8, 4700 River Road Unit 118, Riverdale, MD 20737-1238. Please state that your comment refers to Docket No. APHIS-2007-0003.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on an information collection associated with surveying Animal Care licensees and registrants, contact Mr. J. Michael Tuck, Senior Program Analyst, Office of the Deputy Administrator, PPD, APHIS, 4700 River Road Unit 20, Riverdale, MD 20737-1238; phone (301) 734-5819; or e-mail james.m.tuck@aphis.usda.gov. For copies of more detailed information on the information collection, contact Mrs. Celeste Sickles, APHIS' Information Collection Coordinator, at (301) 734-7477.

SUPPLEMENTARY INFORMATION: Title: Animal Care; Program Evaluation Survey; Licensees and Registrants.

OMB Number: 0579-XXXX.

Type of Request: Approval of a new information collection.

Abstract: The Animal and Plant Health Inspection Service, Animal Care program, conducts activities to administer and enforce the Animal Welfare Act (AWA) and regulations issued under the AWA.

Animal Care plans to survey a sample of facilities licensed or registered under the regulations. A similar survey was conducted in 1997. This survey will help Animal Care assess the effectiveness of changes made to the program as a result of that initial survey. Animal Care will use the information from this survey to plan further improvements in its operations.

We are asking OMB to approve our use of this information collection activity for 3 years. The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.16 hours per response.

Respondents: Dealers, exhibitors, intermediate carriers and handlers, and research facilities.

Estimated annual number of respondents: 4,200.

Estimated annual number of responses per respondent: 1.

Estimated annual number of responses: 4,200.

Estimated total annual burden on respondents: 672 hours. (Due to averaging, the total annual burden hours may not equal the product of the annual number of responses multiplied by the reporting burden per response.)

All responses to this notice will be summarized and included in the request for OMB approval. All comments will also become a matter of public record.

Done in Washington, DC, this 12th day of February 2007.
Kevin Shea,
Acting Administrator, Animal and Plant Health Inspection Service.

[FR Doc. E7-2787 Filed 2-15-07; 8:45 am]

BILLING CODE 3410-34-P